SMALL BUSINESS ADMINISTRATION

National Advisory Council; Public Meeting

The U.S. Small Business Administration National Advisory Council, will hold a public meeting October 1-3, 2000 located at the Wyndham Miami Biscayne Bay Hotel, 1601 Biscayne Boulevard Miami, Florida to discuss such matters as may be presented by members, staff of the U.S. Small Business Administration, or others present. For further information call Bettie Baca, Counselor to the Administrator/Public Liaison, (202) 205-2469.

Bettie Baca,
Counselor to the Administrator/Public Liaison.

[FR Doc. 00-24475 Filed 9-22-00; 8:45 am]

BILLING CODE 8025-01-P